DEPARTMENT OF HEALTH AND HUMAN SERVICES

Health Resources and Services Administration

Fiscal Year 2002 Competitive Application Cycle for the Radiation Exposure Screening and Education Program 93.257

AGENCY: Health Resources and Services Administration, HHS.

ACTION: Correction.

SUMMARY: In notice document FR Doc. 02-10634, in the issue of Tuesday, April 30, 2002, make the following correction:

On page 21257 in the third column, under section “Funding Preferences,” replace the first bullet (which reads “Applicants that propose a Statewide service area.”) with the following bullet:

• Applicants that propose a Statewide service area and provide or arrange for services at multiple locations to serve a widely dispersed population so that all eligible individuals throughout the State have access to services.

Dated: April 30, 2002.
Jane M. Harrison,
Director, Division of Policy Review and Coordination.

[FR Doc. 02-11209 Filed 5-6-02; 8:45 am]

BILLING CODE 4165-15-P